DEPARTMENT OF COMMERCE

Foreign-Trade Zones Board

[Order No. 1507]

Expansion of Foreign-Trade Zone 32, Miami, Florida

Pursuant to its authority under the Foreign-Trade Zones Act of June 18, 1934, as amended (19 U.S.C. 81a-81u), the Foreign-Trade Zones Board (the Board) adopts the following Order:

WHEREAS, the Greater Miami Foreign-Trade Zone, Incorporated, grantee of Foreign-Trade Zone 32, submitted an application to the Board for authority to expand the zone to include a site in Medley, Florida, and to restore zone status to one acre at Site 1, within the Miami Customs and Border Protection port of entry (FTZ Docket 32-2006; filed 8/10/06);

WHEREAS, notice inviting public comment was given in the Federal Register (71 FR 48909, 8/22/06) and the application has been processed pursuant to the FTZ Act and the Board's regulations; and,

WHEREAS, the Board adopts the findings and recommendations of the examiner's report, and finds that the requirements of the FTZ Act and Board's regulations are satisfied, and that the proposal is in the public interest;

NOW, THEREFORE, the Board hereby orders:

The application to expand FTZ 32 is approved, subject to the FTZ Act and the Board's regulations, including Section 400.28.

Signed at Washington, DC, this 13th day of March 2007.

David M. Spooner,
Assistant Secretary of Commerce for Import Administration, Alternate Chairman Foreign-Trade Zones Board.
Attest:
Andrew McGilvray,
Executive Secretary.

[FR Doc. E7-5056 Filed 3-19-07; 8:45 am]

BILLING CODE 3510-DS-S